DEPARTMENT OF ENERGY

Federal Energy Regulatory Commission

Notice of Institution of Section 206 Proceedings and Refund Effective Date

Ameren Illinois Company | Docket Nos. EL18-155-000.
Ameren Transmission Company of Illinois | Docket Nos. EL18-156-000.
American Transmission Company, LLC | Docket Nos. EL18-157-000.
GridLiance West Transco LLC | Docket Nos. EL18-158-000.
International Transmission Company | Docket Nos. EL18-159-000.
ITC Midwest, LLC | Docket Nos. EL18-160-000.
Northern States Power Company, a Minnesota corporation | Docket Nos. EL18-161-000.
Northern States Power Company, a Wisconsin corporation | Docket Nos. EL18-162-000.
Public Service Company of Colorado | Docket Nos. EL18-163-000.
Southern California Edison Company | Docket Nos. EL18-164-000.
TransCanyon DCR, LLC | Docket Nos. EL18-165-000.
Southwestern Public Service Company | Docket Nos. EL18-166-000.
Virginia Electric and Power Company | Docket Nos. EL18-167-000 (not consolidated).

On June 21, 2018, the Commission issued an order in Docket Nos. EL18-155-000, EL18-156-000, EL18-157-000, EL18-158-000, EL18-159-000, EL18-160-000, EL18-161-000, EL18-162-000, EL18-163-000, EL18-164-000, EL18-165-000, EL18-166-000, and EL18-167-000, pursuant to section 206 of the Federal Power Act (FPA), 16 U.S.C. 824e (2012), instituting investigations into whether the transmission formula rates of Ameren Illinois Company, Ameren Transmission Company of Illinois, American Transmission Company, LLC, GridLiance West Transco LLC, International Transmission Company, ITC Midwest, LLC, Northern States Power Company, a Minnesota corporation, Northern States Power Company, a Wisconsin corporation, Public Service Company of Colorado, Southern California Edison Company, TransCanyon DCR, LLC, Southwestern Public Service Company, and Virginia Electric and Power Company (collectively, Respondents) may be unjust, unreasonable, or unduly discriminatory or preferential. Ameren Illinois Company, et al., 163 FERC 61,200 (2018).

The refund effective date in Docket Nos. EL18-155-000, EL18-156-000, EL18-157-000, EL18-158-000, EL18-159-000, EL18-160-000, EL18-161-000, EL18-162-000, EL18-163-000, EL18-164-000, EL18-165-000, EL18-166-000, and EL18-167-000, established pursuant to section 206(b) of the FPA, will be the date of publication of this notice in the Federal Register.

Any interested person desiring to be heard in the proceeding associated with a particular Respondent must file a notice of intervention or motion to intervene, as appropriate, in the docket number identified in the caption of this notice, with the Federal Energy Regulatory Commission, 888 First Street NE, Washington, DC 20426, in accordance with Rule 214 of the Commission's Rules of Practice and Procedure, 18 CFR 385.214 (2017), within 21 days of the date of issuance of the order.

Dated: June 21, 2018.
Nathaniel J. Davis, Sr.,
Deputy Secretary.

[FR Doc. 2018-13849 Filed 6-26-18; 8:45 am]

BILLING CODE 6717-01-P